DEPARTMENT OF TRANSPORTATION

National Highway Traffic Safety Administration

[Docket No. NHTSA-2012-0045; Notice 1]

Hyundai Motor Company, Receipt of Petition for Decision of Inconsequential Noncompliance

AGENCY: National Highway Traffic Safety Administration, DOT.

ACTION: Receipt of petition.

SUMMARY: Hyundai America Technical Center, Inc., on behalf of Hyundai Motor Company (collectively referred to as “Hyundai”) ¹ has determined that certain model year 2012 Hyundai Veracruz multipurpose passenger vehicles (MPV) manufactured August 9, 2011, through January 8, 2012, that were equipped with 7J x 18 wheel rims, do not fully comply with paragraph S4.3.3 of Federal Motor Vehicle Safety Standard (FMVSS) No. 110, Tire Selection and Rims and Motor Home/Recreation Vehicle Trailer Load Carrying Capacity Information for Motor Vehicles with a GVWR of 4,536 Kilograms (10,000 pounds) or less. Hyundai has filed an appropriate report dated February 9, 2012, pursuant to 49 CFR part 573, Defect and Noncompliance Responsibility and Reports.

¹ Hyundai America Technical Center, Inc., is a corporation registered under the laws of the state of Michigan.

Pursuant to 49 U.S.C. 30118(d) and 30120(h) (see implementing rule at 49 CFR part 556), Hyundai submitted a petition for an exemption from the notification and remedy requirements of 49 U.S.C. chapter 301 on the basis that this noncompliance is inconsequential to motor vehicle safety.

This notice of receipt of Hyundai's petition is published under 49 U.S.C. 30118 and 30120 and does not represent any agency decision or other exercise of judgment concerning the merits of the petition.

Vehicles involved: Affected are approximately 2,764 model year 2012 Hyundai Veracruz vehicles produced beginning on August 9, 2011, through January 8, 2012, that were equipped with 7J x 18 wheel rims at the assembly plant.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 2,764 ² vehicles that Hyundai no longer controlled at the time it determined that the noncompliance existed.

² Hyundai's petition, which was filed under 49 CFR part 556, requests an agency decision to exempt Hyundai as a motor vehicle manufacturer from the notification and recall responsibilities of 49 CFR part 573 for the 2,764 affected vehicles. However, a decision on this petition will not relieve vehicle distributors and dealers of the prohibitions on the sale, offer for sale, introduction or delivery for introduction into interstate commerce of the noncompliant vehicles under their control after Hyundai notified them that the subject noncompliance existed.

Noncompliance: Hyundai explains that the noncompliance is that the rim size information required by paragraph S4.3.3 of FMVSS No. 110 was omitted from the certification labels that it installed on the affected vehicles.

Rule text: Paragraph S4.3.3 of FMVSS No. 110 requires:

S4.3.3 Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by § 567.4 or § 567.5 of this chapter. This information shall be in the English language, lettered in block capitals and numerals not less than 2.4 millimeters high and in the following format

Truck Example—Suitable Tire-Rim Choice

GVWR: 2,441 kilograms (5381 pounds).

GAWR: Front—1,299 kilograms (2,864 pounds) with P265/70R16 tires, 16 x 8.0 rims at 248 kPa (36 psi) cold single.

GAWR: Rear—1,299 kilograms (2,864 pounds) with P265/70R16 tires, 16 x 8.00 rims, at 248 kPa (36 psi) cold single.

Summary of Hyundai's Analysis and Arguments

Hyundai believes that the missing rim size information on the certification label is inconsequential as it relates to motor vehicle safety, because this information is readily available to the vehicle owner through other sources that are required to be furnished with the vehicle. The rim size is marked on the rims and is included in the Owner's Manual, which is referenced as an information source by the tire placard which is positioned adjacent to the certification label on the “B” pillar. FMVSS No. 110 paragraph 4.4.2(b) ³ requires that each rim be marked with the rim size designation. The affected vehicles are equipped with rims that are marked with the rim size and meet the requirements of FMVSS No. 110 paragraph 4.4.2.

³ The citation that Hyundai referenced for rim size designation marking requirements in its petition, paragraph S4.2.2, is incorrect. The correct citation is paragraph S4.4.2.

Additionally, the tire placard required by FMVSS No. 110 paragraph 4.3(d) requires that the tire size designation be provided for the tires installed at the time of the first purchase and FMVSS No. 110 paragraph S4.3(f) requires that the placard state “See Owner's Manual for Additional Information”. The affected vehicles are equipped with placards that meet the requirements of FMVSS No. 110 paragraph 4.3.

Hyundai also stated that they are not aware of any notices, bulletins, or other communications that relate directly to the noncompliance sent to more than one manufacturer, distributor, dealer, or purchaser.

Hyundai has additionally informed NHTSA that it has corrected the noncompliance so that all future production vehicles will comply with FMVSS No. 110.

In summation, Hyundai believes that the described noncompliance of its vehicles is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to: U.S. Department of Transportation, Docket Operations, M-30, West Building Ground Floor, Room W12-140, 1200 New Jersey Avenue SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: July 9, 2012.

Authority: 49 U.S.C. 30118, 30120: Delegations of authority at CFR 1.50 and 501.8.

Issued on: May 31, 2012.
Claude H. Harris,
Director, Office of Vehicle Safety Compliance.

[FR Doc. 2012-13801 Filed 6-6-12; 8:45 am]

BILLING CODE 4910-59-P